DEPARTMENT OF LABOR

Employment and Training Administration

[TA-W-60,857]

ASEC Manufacturing, a Subsidiary of Delphi Corporation Now Known as Umicore Autocat USA, Inc., Catoosa, Oklahoma; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification Regarding Eligibility to Apply for Worker Adjustment Assistance and Alternative Trade Adjustment Assistance on May 7, 2007, applicable to workers of ASEC Manufacturing, a subsidiary of Delphi Corporation, Catoosa, Oklahoma. The notice was published in the Federal Register on May 24, 2007 (72 FR 29182).

At the request of the UAW, Local 286, the Department reviewed the certification for workers of the subject firm. The workers are engaged in the production of automotive catalysts.

New information shows that as the result of a change in ownership, ASEC Manufacturing, a subsidiary of Delphi Corporation, will become known as Umicore AutoCat USA, Inc. on September 28, 2007. Workers separated from employment at the subject firm had their wages reported under a separate unemployment insurance (UI) tax account for Umicore AutoCat USA, Inc.

Accordingly, the Department is amending this certification to properly reflect this matter.

The intent of the Department's certification is to include all workers of ASEC Manufacturing, a subsidiary of Delphi Corporation, now known as Umicore AutoCat USA, Inc. who were adversely affected by increased customer imports of automotive catalysts.

The amended notice applicable to TA-W-60,857 is hereby issued as follows:

“All workers of ASEC Manufacturing, a subsidiary of Delphi Corporation, now known as Umicore AutoCat USA, Inc., Catoosa, Oklahoma, who became totally or partially separated from employment on or after January 22, 2006, through May 7, 2009, are eligible to apply for adjustment assistance under Section 223 of the Trade Act of 1974, and are also eligible to apply for alternative trade adjustment assistance under Section 246 of the Trade Act of 1974.”

Signed at Washington, DC, this 25th day of September 2007.
Richard Church,
Certifying Officer, Division of Trade Adjustment Assistance.

[FR Doc. E7-19480 Filed 10-2-07; 8:45 am]

BILLING CODE 4510-FN-P